OFFICE OF MANAGEMENT AND BUDGET

Privacy Act of 1974; System of Records

AGENCY: Office of Management and Budget.

ACTION: Notice of a modified of a system of records (SORN).

SUMMARY: Pursuant to the Privacy Act of 1974 and Office of Management and Budget Circular No. A-108, Federal Agency Responsibilities for Review, Reporting, and Publication under the Privacy Act, notice is hereby given that the Office of Management and Budget (OMB) is modifying the following system of records: “Private Relief Legislation, OMB/LEGIS/01.”

DATES: In accordance with 5 U.S.C. 552a(e)(4) and (11), this system of records is effective upon its publication in today's Federal Register, with the exception of the routine uses, which are subject to a 30-day comment period, and will be effective October 21, 2024. Please submit any comments on or before October 21, 2024.

ADDRESSES: You may submit comments through regulations.gov.

Instructions: All submissions must contain the subject heading “Private Relief Legislation.”

Privacy Act Statement: OMB is issuing a modification of this System of Records Notice pursuant to 5 U.S.C. 552a(e)(4). Submission of comments is voluntary. Information you provide will be used to inform sound decision-making regarding this notice. Please note that all submissions received in response to this notice may be posted on https://www.regulations.gov/ or otherwise released in their entirety, including any personal and business confidential information provided. Do not include in your submissions any copyrighted material; information of a confidential nature, such as personal or proprietary information; or any information you would not like to be made publicly available. The OMB System of Records Notice, OMB Public Input System of Records, OMB/INPUT/01, 88 FR 20913, July 4, 2023 (https://www.federalregister.gov/documents/2023/04/07/2023-07452/privacy-act-of-1974-system-of-records), includes a list of routine uses associated with the collection of this information.

FOR FURTHER INFORMATION CONTACT: For questions about this proposed modification, please contact Shraddha A. Upadhyaya by email at SORN@omb.eop.gov or (202) 395-9225. You must include “Private Relief Legislation” in the subject line.

SUPPLEMENTARY INFORMATION: In accordance with the Privacy Act of 1974, 5 U.S.C. 552a, OMB conducted a review of its Privacy Act systems of records and determined OMB/LEGIS/01, which was last updated on March 30, 2000, should be modified to update routine uses; contact information; record source categories; policies and practices for storage of records; records retention and disposal; policies and practices for retrieval of records; administrative, technical, and physical safeguards; record access, amendment, and notification procedures; authority for maintenance of the system; and for general clarity.

SYSTEM NAME AND NUMBER:

OMB Private Relief Legislation, OMB/LEGIS/01.

SECURITY CLASSIFICATION:

Unclassified.

SYSTEM LOCATION:

Records are maintained at OMB, 725 17th Street NW, Washington, DC 20503.

SYSTEM MANAGER(S):

Director for Information Management, Legislative Reference Division, 725 17th Street NW, Washington, DC.

AUTHORITY FOR MAINTENANCE OF THE SYSTEM:

Executive Order 8248, Establishing the Divisions of the Executive Office of the President and Defining their Functions and Duties.

PURPOSE(S) OF THE SYSTEM:

The system contains records on private relief legislation reviewed by OMB as part of OMB's legislative coordination and clearance process, set forth in OMB Circular No. A-19, revised September, 1979.

CATEGORIES OF INDIVIDUALS COVERED BY THE SYSTEM:

Individuals who are the subject of proposed or enacted private relief legislation.

CATEGORIES OF RECORDS IN THE SYSTEM:

The information contained in these records consists of those private relief bills requiring Office of Management and Budget review as specified in OMB Circular A-19, revised September, 1979. The information maintained may include copies of a draft bill proposed by an agency as defined in the Circular, copies of bills introduced by Congress, and if applicable, Congressional committee reports, agency memoranda and letters, OMB memoranda and letters, and other documents as may be needed in connection with the legislative coordination and clearance process. Certain individual records may also contain correspondence from and to the individual about whom the information is maintained.

RECORD SOURCE CATEGORIES:

OMB receives records from Congress and agencies when submitting records for the review of private relief legislation as set forth in OMB Circular No. A-19.

ROUTINE USES OF RECORDS MAINTAINED IN THE SYSTEM, INCLUDING CATEGORIES OF USERS AND PURPOSES OF SUCH USES:

In addition to those disclosures generally permitted under the Privacy Act, 5 U.S.C. 552a(b), all or a portion of the records or information contained therein may be disclosed outside of OMB as a routine use pursuant to 5 U.S.C. 552a(b)(3) as follows:

A. To appropriate agencies and entities, for the purpose of resolving an inquiry regarding compliance with the Freedom of Information Act.

B. To appropriate agencies and entities, when OMB determines the information in this system of records is reasonably necessary to accomplish OMB's review of the draft private relief legislation.

C. To the Department of Justice (DOJ) when any of the following is a party to litigation before any court, adjudicative, or administrative body or has an interest in such litigation, and the use of such records by DOJ is deemed by OMB to be relevant and necessary to the litigation:

(1) OMB, or any component thereof;

(2) any employee or former employee of OMB in the employee's official capacity;

(3) any employee or former of employee of OMB in the employee's individual capacity where DOJ has agreed to represent the employee; or

(4) a Federal agency, a Federal entity, a Federal official, or the United States, where OMB determines that litigation is likely to affect OMB or any of its components.

D. In a proceeding before a court or adjudicative body before which OMB is authorized to appear, when OMB determines that the records are relevant and necessary to the litigation; or in an appropriate proceeding before an administrative or adjudicative body when the adjudicator determines the records to be relevant to the proceeding.

E. To a congressional office in response to an inquiry from that congressional office made at the request of the individual to whom the record pertains.

F. To any agency or organization for the purpose of performing audit or oversight operations as authorized by law, but only such information as is necessary and relevant to such audit or oversight function.

G. To the National Archives and Records Administration (NARA) for purposes of records management and mail processing inspections conducted under the authority of 44 U.S.C. 2904 and 2906.

H. To NARA, Office of Government Information Services (OGIS), to the extent necessary to fulfil its responsibilities in 5 U.S.C. 552(h), to review administrative agency policies, procedures, and compliance with the Freedom of Information Act, and to facilitate OGIS' offering of mediation services to resolve disputes between persons making FOIA requests and administrative agencies.

I. To appropriate agencies, entities, and persons when

(1) OMB suspects or has confirmed that there has been a breach of the system of records;

(2) OMB has determined that as a result of the suspected or confirmed breach there is a risk of harm to individuals, OMB (including its information systems, programs, and operations), the Federal Government, or national security; and

(3) the disclosure made to such agencies, entities, and persons is reasonably necessary to assist in connection with OMB's efforts to respond to the suspected or confirmed breach or to prevent, minimize, or remedy such harm.

J. To another Federal agency or Federal entity, when OMB determines that information from this system of records is reasonably necessary to assist the recipient agency or entity in

(1) responding to a suspected or confirmed breach; or

(2) preventing, minimizing, or remedying the risk of harm to individuals, the recipient agency or entity (including its information systems, programs, and operations), the Federal Government, or national security, resulting from a suspected or confirmed breach.

K. Where a record, either alone or in conjunction with other information, indicates a violation or potential violation of law—criminal, civil, or regulatory in nature—the relevant records may be referred to the appropriate Federal, State, local, territorial, Tribal, international, or foreign law enforcement authority or other appropriate entity charged with the responsibility for investigating or prosecuting such violation or charged with enforcing or implementing such law.

L. To contractors and their agents, grantees, experts, consultants, students, and others performing or working on a contract, service, grant, cooperative agreement, or other assignment for OMB, when necessary to accomplish an agency function related to this system of records. Individuals provided information under this routine use are subject to the same requirements and limitations on disclosure as are applicable to OMB officers and employees.

M. To such recipients and under such circumstances and procedures as are mandated by Federal statute or treaty.

POLICIES AND PRACTICES FOR STORAGE OF RECORDS:

Records in this system are stored in electronic in secure facilities. The records may be stored on magnetic disc, tape, and digital media.

POLICIES AND PRACTICES FOR RETRIEVAL OF RECORDS:

Records may be retrieved by full-text search or by name of individual, bill number, or private law number.

POLICIES AND PRACTICES FOR RETENTION AND DISPOSAL OF RECORDS:

These records are maintained permanently and transferred to the National Archives and Records Administration in accordance with published records schedules of the Office of Management and Budget.

ADMINISTRATIVE, TECHNICAL, AND PHYSICAL SAFEGUARDS:

All electronic records are maintained in secure systems which require multi-factor authentication and that use security hardware and software to include multiple firewalls, encryption, identification, and authentication of users. All security controls are reviewed on a periodic basis by external assessors. The controls themselves include measures for access control, security awareness training, audits, configuration management, contingency planning, incident response, and maintenance. Access to the information technology systems containing the records in this system is limited to those individuals who need the information for the performance of their official duties and who have appropriate clearances or permissions.

RECORD ACCESS PROCEDURES:

Individuals' requests for access to records should be directed to OMB by following the instructions provided in 5 CFR part 1302.

CONTESTING RECORD PROCEDURES:

Individuals' requests for amendment of a record in this system of records should be directed to OMB by following the instructions provided in 5 CFR part 1302.

NOTIFICATION PROCEDURES:

Individuals' requests for notification as to whether this system of records contains a record pertaining to them should be directed to OMB by following the instructions provided in 5 CFR part 1302.

EXEMPTIONS PROMULGATED FOR THE SYSTEM:

None.

HISTORY:

65 FR 16977, March 30, 2000.

Shraddha A. Upadhyaya,
Senior Agency Official for Privacy, Office of Management and Budget.

[FR Doc. 2024-20987 Filed 9-19-24; 8:45 am]

BILLING CODE 3110-01-P